ENVIRONMENTAL PROTECTION AGENCY

40 CFR Part 70

[KY-JEFF-T5-2002-01b; FRL-7144-1]

Clean Air Act Proposed Full Approval of Operating Permit Program Revisions; Jefferson County (KY)

AGENCY: Environmental Protection Agency (EPA).

ACTION: Proposed rule.

SUMMARY: EPA proposes approval of revisions to the operating permit program of the Jefferson County Air Pollution Control District in Kentucky. In the final rules section of this Federal Register, EPA is approving revisions to the County's operating permit program as a direct final rule without prior proposal because the Agency views this as a noncontroversial amendment and anticipates no adverse comments. An explanation for the approval is set forth in the direct final rule. If no adverse comments are received in response to this action, no further activity is contemplated. If EPA receives adverse comments, the direct final rule will be withdrawn and all public comments will be addressed in a subsequent final rule based on this proposed rule. EPA will not institute a second comment period on this action. Any parties interested in commenting should do so at this time.

DATES: Written comments must be received by March 25, 2002.

ADDRESSES: Written comments on this action should be addressed to César Zapata, Air Permits Section, Air Planning Branch, EPA Region 4, 61 Forsyth Street, SW, Atlanta, Georgia 30303-8960. Copies of the Jefferson County submittals and other supporting documentation relevant to this action are available for inspection during normal business hours at EPA Region 4, Air Planning Branch, 61 Forsyth Street, SW, Atlanta, Georgia 30303-8960.

FOR FURTHER INFORMATION CONTACT: César Zapata, EPA Region 4, at (404) 562-9139 or zapata.cesar@epa.gov/.

SUPPLEMENTARY INFORMATION: For additional information see the direct final rule which is published in the final rules section of this Federal Register.

Dated: January 31, 2002.
A. Stanley Meiburg,
Acting Regional Administrator, Region 4.

[FR Doc. 02-3767 Filed 2-20-02; 8:45 am]

BILLING CODE 6560-50-P